DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request the Office of Management and Budget (OMB) to reinstate the information collection project: “AHRQ-HRSA Chemical, Biological, Radiological, Nuclear and Explosive (All Hazards) Preparedness Questionnaire for Healthcare Facilities for 2004 (CBRNE)”. In accordance with the Paperwork Reduction Act of 1995, 44 U.S.C. 3506(C)(2)(A), AHRQ invites the public to comment on this proposed information collection.

AHRQ obtained a six-month emergency collection approval for the first wave of this information collection. This reinstatement of the previous clearance approval coves the second wave of the same survey. The respondents will be queried as to their progress in achieving the preparedness goals reported in the first wave.

DATES: Comments on this notice must be received by November 7, 2005.

ADDRESSES: Written comments for the proposed information collection should be submitted to: Cynthia D. McMichael, Reports Clearance Officer, AHRQ, 540 Gaither Road, Room #5022, Rockville, MD 20850.

Copies of the proposed collection plans, data collection instruments, and specific details on the estimated burden can obtained from the AHRQ Reports Clearance Officer.

FOR FURTHER INFORMATION CONTACT: Cynthia D. McMichael, AHRQ Reports Clearance Officer, (301) 427-1651.

SUPPLEMENTARY INFORMATION:

Proposed Project

“AHRQ-HRSA Chemical, Biological, Radiological, Nuclear and Explosive (All Hazards) Preparedness Questionnaire for Healthcare Facilities for 2004 (CBRNE)”

The Preparedness Questionnaire is an inventory of the U.S. hospitals which received support for preparedness activities under the HRSA National Bioterrorism Hospital Preparedness Program. This survey instrument is being designed for use by preparedness planners to measure local or regional hospital levels of preparedness for a chemical, biological, radiological, nuclear and explosive (CBRNE) event. One point of contact is designated in each hospital to provide information on a range of topics that have been deemed essential by a panel of nationally-recognized experts on issues related to hospital preparedness for a CBRNE, i.e., an all hazards event.

These topics include facility planning and administration; training and education; communication and notification; patient capacity; staffing and support; isolation and decontaminations; supplies, pharmaceuticals and laboratory support; and surveillance.

The inventory, which was administered in 2004/2005 and will be again in 2006, will provide national, state, and regional levels of preparedness by type of hospital, as well as estimates of bed capacity and emergency increase (surge) capacity. This information will be used to ascertain the progress of the previously queried hospitals in attaining their preparedness goals.

In addition to determination the capacity of the survey instrument to actually collect information needed for local and regional planning, it should also be useful for national planning, program planning, setting priority areas in addressing current and future needs, as well as ensuring that scarce resources are being used in a way that achieves the most impact in preparedness.

Data Confidentiality Provisions

The data will be collected by an independent consulting firm under terms of its contract. The identifiable information about institutions will be kept confidential in accordance with 42 USC 299c-3(c). AHRQ and HRSA will receive only state-level summary data, and not individual hospital responses.

Method of Collection

The preparedness questionnaire will be administered electronically to each hospital via electronic mail. The estimated burden is as follows:

Estimated Annual Respondent Burden

Number of questionnaire recipients | Estimated burden/respondent | Total hours of burden
1479 | 60 minutes | 1479

The estimate burden is based on the completion of a paper version of the questionnaire by a pilot hospital. The more efficient data collection effort enabled by the electronic format has been taken into account in this estimate. The annualized cost to all potential respondents is estimated at $51,528 Total ($34.84/hr [average staff time] × 1 hr. × 1479 respondents). Percentage of capital costs, operating costs or maintenance costs are negligible.

A stratified random sample by state will be used in this second wave survey. This second wave (resurvey) is utilizing statistical methods based on baseline data in developing a sampling scheme.

Request for Comments

In accordance with the above cited Paperwork Reduction Act legislation, comments on the AHRQ's and HRSA's information collection are requested with regard to any of the following: (a) Whether the proposed collection of information is necessary for the proper performance of functions of AHRQ and HRSA, including whether the information will have practical utility; (b) the accuracy of the agency's estimate of the burden (including hours and costs) of the proposed collection of information; (c) ways to enhance the quality, utility, and clarity of the information to be collected; and (d) ways to minimize the burden of the collection of information on respondents, including the use of automated collection techniques or other forms of information technology.

Comments submitted in response to this notice will be summarized and included in the request for OMB approval of the proposed information collection. All comments will become a matter of public record.

Dated: August 12, 2005.
Carolyn M. Clancy,
Director.

[FR Doc. 05-17617 Filed 9-2-05; 8:45 am]

BILLING CODE 4160-90-M